DEPARTMENT OF HEALTH AND HUMAN SERVICES

Administration for Children and Families

Proposed Information Collection Activity; National Medical Support Notice—Part A (OMB #0970-0222)

AGENCY: Office of Child Support Enforcement; Administration for Children and Families; HHS.

ACTION: Request for public comment.

SUMMARY: The Administration for Children and Families (ACF) is requesting a three year extension of the form National Medical Support Notice (NMSN) Part A (OMB #0970-0222 expiration 8/31/2019). The following changes were made to the form: A checkbox was added to distinguish between the National Medical Support Order/Notice (NMSN) and the a Termination Order/Notice. The following instruction was added under the Employer Responsibilities: 3. If the Termination Order/Notice checkbox is checked, you are required to terminate the health care coverage for the child(ren) identified in the order.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION: Description: The National Medical Support Notice (NMSN) is a two-part document completed by state child support enforcement agencies, employers, and health plan administrators to enforce health care coverage provisions in a child support order. The Department of Health and Human Services (DHHS) developed and maintains Part A of the NMSN, which is sent to an obligor's employer for completion; the Department of Labor (DOL) developed and maintains Part B of the NMSN, which is provided to health care administrators following completion of Part A. The Administration for Children and Families is requesting that the NMSN Part A expiration dates continue to be synchronize with the expiration date of NMSN Part B submitted by DOL.

Respondents: State child support enforcement agencies, employers, and health plan administrators.

Annual Burden Estimates
Instrument | Respondent | Number of respondents | Number of responses per respondent | Average burden hours per response | Total burden hours
National Medical Support Notice—Part A—Notice to Withhold for Health Care Coverage | State | 54 | 89,634 | .17 | 822,840
| Employers | 1,027,484 | 4.71 | .17 | 822,706

Estimated Total Annual Burden Hours: 1,645,546.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authorities: Section 466(a)(19) of the Social Security Act (42 U.S.C 666(a)(19)), section 609(a)(5)(C) of the Employee Retirement Income Security Act of 1974 (ERISA) (29 U.S.C. 1169(a)(5)(C)), and for State and local government and church plans sections 401(e) and (f) of the Child Support Performance and Incentive Act of 1998 (29 CFR 2590.609-2).

Mary B. Jones,
ACF/OPRE Certifying Officer.

[FR Doc. 2019-05097 Filed 3-18-19; 8:45 am]

BILLING CODE 4184-01-P